DEPARTMENT OF THE INTERIOR

Bureau of Land Management

[CO-14000-00-1610-00]

Interim Travel Limitations to Motorized and Mechanized Vehicles in the Roan Plateau Area; Colorado

AGENCY: Bureau of Land Management, Department of the Interior.

ACTION: Notice.

SUMMARY: Notice is hereby given that motorized and mechanized travel, except snowmobiles operating on snow, are limited to designated routes yearround. The affected public land is generally known as the Roan Plateau or the Roan Cliffs. The affected public land is located northwest of Rifle, Colorado in Garfield County. The travel order specifically encompasses, approximately 53, 916 acres public lands in T. 5 S., R. 93 W., Sections 6, 7, 8, 17, 18, 19, 20, 29, 30, 31, 32; T. 5 S., R 94 W., Sections 1, 2, 3, 4, 5, 6, 7, 8, 9, 10, 11, 12, 13, 14, 15, 16, 17, 18, 19, 20, 21, 22, 23, 24, 25, 26, 27, 28, 29, 30, 31, 32, 33, 34, 35, 36; T. 5 S., R 95 W., Sections 1, 2, 4, 11, 12, 13, 14, 23, 24, 25, 26, 35, 36; T. 6 S., R 94 W., Sections 2, 3, 4, 5, 6, 7, 8, 9, 10, 17, 18, 19; T. 6 S, R. 95 W. Sections 1, 2, 3, 4, 5, 6, 7, 8, 9, 10, 11, 12, 13, 15, 16, 17,19, 20, 21, 22, 23, 24, 25, 26, 27, 28, 29, 30, 31, 32, 33; T. 6 S. R. 96 W., Sections 25, 26, 35, 36; T. 7 S., R. 95 W., Section 6; T. 7 S., R. 96 W., Section 1; 6th Principal Meridian; Garfield County.

This action is in accordance with the Glenwood Springs Resource Management Plan (RMP), Record of Decision (BLM, 1984). This order, issued under the authority of 43 CFR 8364.1 and 43 CFR 8341.2(a), is established because there are currently no travel designations for the area. The interim travel designations are needed as a temporary measure to halt and mitigate the proliferation of roads and trails, caused by cross-country travel, which results in unacceptable damage to vegetation, soils, wildlife habitat, and other natural resources as well as creating user conflicts. Any cross-country use of motorized or mechanized transport off designated routes is prohibited. This travel order does not apply to foot or horseback travel.

EFFECTIVE DATES: The travel limitations become effective immediately upon publication of this notice in the Federal Register and will remain in effect until the Glenwood Springs Field Office RMP is amended. The RMP amendment process is scheduled to begin in October of the year 2000. The planning process may result in a decision by the authorized officer to maintain, rescind or modify these interim travel designations.

SUPPLEMENTARY INFORMATION: In November, 1997 Public Law 105-85 directed the transfer of jurisdiction of the area formally known as the Naval Oil Shale Reserve (NOSR) from the Department of Energy (DOE) to the BLM. The transfer directed that the lands be managed in accordance with laws applicable to public lands. BLM has been providing custodial surface management on the NOSR for many years under a Memorandum of Understanding with DOE. In fact, the 1984 Glenwood Springs Field Office (GSFO), Resource Management Plan (RMP), includes the NOSR lands and provides management direction for some activities. However, some major land use allocation decisions, like travel management were not included in the 1984 RMP.

Visitors will notice little change in the routes open for travel since the existing network of travel routes have been essentially designated as open. The area and routes affected by this order will be posted with appropriate regulatory signs and information in such a manner and location as is reasonable to bring prohibitions to the attention of visitors. Information, including an updated map of the designated routes (Roan Plateau Visitor Guide and Map), is available from the Glenwood Springs Field Office at the addresses shown below.

Persons who are exempt from the restrictions include: (1) Any Federal, State, or local officers engaged in fire, emergency and law enforcement activities; (2) BLM employees engaged in official duties; (3) Persons authorized to travel off designated routes via travel authorizations from the Glenwood Springs Field Office.

Penalties: Any person who fails to comply with the provisions of this order may be subject to penalties outlined in 43 CFR 8360.0-7.

ADDRESSES: Field Office Manager, Glenwood Springs Field Office, Bureau of Land Management, 50629 Highway 6 & 24, P.O. Box 1009, Glenwood Springs, CO 81602

FOR FURTHER INFORMATION CONTACT: Brian Hopkins, (970) 947-2840.

Steve Bennett,
Acting Glenwood Springs Field Office Manager.

[FR Doc. 00-16780 Filed 6-30-00; 8:45 am]

BILLING CODE 4310-JB-P